DEPARTMENT OF ENERGY

Federal Energy Regulatory Commission

Combined Notice of Filings #1

Take notice that the Commission received the following electric rate filings:

Docket Numbers: ER10-1276-008; ER10-1287-007; ER10-1292-007; ER10-1303-007; ER10-1319-009; ER10-1353-009.

Applicants: Consumers Energy Company, CMS Energy Resource Management Company, Grayling Generating Station Limited Partnership, Genesee Power Station Limited Partnership, CMS Generation Michigan Power, LLC, Dearborn Industrial Generation, L.L.C.

Description: Notice of Non-Material Change-In-Status of Consumer Energy Company, et. al.

Filed Date: 5/31/18.

Accession Number: 20180531-5437.

Comments Due: 5 p.m. ET 6/21/18.

Docket Numbers: ER18-1731-000.

Applicants: Midcontinent Independent System Operator, Inc.

Description: § 205(d) Rate Filing: 2018-06-01_Filing of MISO TOs for Cost Recovery of Operating and Maintenance Exp to be effective 8/1/2018.

Filed Date: 6/1/18.

Accession Number: 20180601-5228.

Comments Due: 5 p.m. ET 6/22/18.

Docket Numbers: ER18-1732-000.

Applicants: PacifiCorp, Portland General Electric Company, Bonneville Power Administration.

Description: § 205(d) Rate Filing: BPA/PGE/PAC South of Allston Path Agmt ? Rev 1 to be effective 6/1/2018.

Filed Date: 6/1/18.

Accession Number: 20180601-5238.

Comments Due: 5 p.m. ET 6/22/18.

Docket Numbers: ER18-1733-000.

Applicants: PacifiCorp.

Description: § 205(d) Rate Filing: UAMPS Const Agmt for Heber 2nd POD to be effective 8/1/2018.

Filed Date: 6/1/18.

Accession Number: 20180601-5282.

Comments Due: 5 p.m. ET 6/22/18.

Docket Numbers: ER18-1734-000.

Applicants: Public Service Company of Colorado.

Description: § 205(d) Rate Filing: 20180531 First Amended Holy Cross PPA to be effective 4/3/2018.

Filed Date: 6/4/18.

Accession Number: 20180604-5000.

Comments Due: 5 p.m. ET 6/25/18.

Docket Numbers: ER18-1735-000.

Applicants: Pacific Gas and Electric Company.

Description: § 205(d) Rate Filing: Revisions to WDT SGIA for Ministerial Revisions to be effective 6/5/2018.

Filed Date: 6/4/18.

Accession Number: 20180604-5002.

Comments Due: 5 p.m. ET 6/25/18.

Docket Numbers: ER18-1737-000.

Applicants: Northern Indiana Public Service Company.

Description: § 205(d) Rate Filing: Reactive Power Rate Filing of Northern Indiana Public Service Company LLC to be effective 8/1/2018.

Filed Date: 6/4/18.

Accession Number: 20180604-5112.

Comments Due: 5 p.m. ET 6/25/18.

Take notice that the Commission received the following electric securities filings:

Docket Numbers: ES18-33-000.

Applicants: Southwest Power Pool, Inc.

Description: Amendment to April 27, 2018 Application under Section 204 of the Federal Power Act for Authorization to Issue Securities, et al. of Southwest Power Pool, Inc.

Filed Date: 6/1/18.

Accession Number: 20180601-5227.

Comments Due: 5 p.m. ET 6/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2018.
Nathaniel J. Davis, Sr.,
Deputy Secretary.

[FR Doc. 2018-12436 Filed 6-8-18; 8:45 am]

BILLING CODE 6717-01-P